ENVIRONMENTAL PROTECTION AGENCY

40 CFR Part 52

[KY 139-200307(d); FRL-7526-3]

Approval and Promulgation of Implementation Plans for Kentucky: Source-Specific Revision for Lawson Mardon Packaging; Final Rule

AGENCY: Environmental Protection Agency (EPA).

ACTION: Final rule.

SUMMARY: The EPA is finalizing approval of a source-specific revision to the State Implementation Plan (SIP) of the Commonwealth of Kentucky. This revision allows Lawson Mardon Packaging, USA, Inc. to have an alternative compliance averaging period of 30 days instead of the 24-hour averaging period previously specified in the approved SIP. This final rule addresses comments submitted in response to EPA's direct final rulemaking previously published for this action.

EFFECTIVE DATE: This rule will be effective August 11, 2003.

ADDRESSES: Copies of the Commonwealth's submittal are available at the following addresses for inspection during normal business hours:

Environmental Protection Agency, Region 4, Air Planning Branch, 61 Forsyth Street, SW., Atlanta, Georgia 30303-8960. (Michele Notarianni, 404/562-9031, notarianni.michele@epa.gov)

Commonwealth of Kentucky, Division for Air Quality, 803 Schenkel Lane, Frankfort, Kentucky 40601-1403. (502/573-3382)

FOR FURTHER INFORMATION CONTACT: Michele Notarianni at address listed above or 404/562-9031 (phone) or notarianni.michele@epa.gov (e-mail).

SUPPLEMENTARY INFORMATION:

I. Today's Action

II. Background

III. Comment and Response

IV. Final Action

V. Statutory and Executive Order Reviews

I. Today's Action

In this final rulemaking, EPA is responding to comments received in response to a direct final rule and simultaneous proposed rule to approve a source-specific revision to the Kentucky SIP allowing Lawson Mardon Packaging, USA, Inc. (LMP) located in Shelby County, Kentucky, to have an alternative compliance averaging period for emissions of volatile organic compounds (VOCs). The proposal would allow an averaging period of 30 days instead of the 24-hour averaging period previously specified in the approved SIP.

II. Background

On December 18, 2002, EPA simultaneously published a proposed rule (67 FR 77463) and a direct final rule (67 FR 77430) to approve a source-specific revision to the Kentucky SIP which allows LMP to have an alternative compliance averaging period of 30 days for VOC emissions instead of the 24-hour averaging period specified by SIP-approved Kentucky air quality regulations 59:210 and 59:212. EPA received adverse comment during the 30-day comment period and therefore withdrew the direct final rule on February 10, 2003 (see 68 FR 6629). This final rule addresses the comment on the proposed rule.

III. Comment and Response

EPA received one adverse comment submitted by the Coalition for Health Concern in Benton, Kentucky. A summary of the adverse comment and EPA's response is provided below.

Comment: The Coalition for Health Concern opposes the change in the VOC compliance averaging period for LMP due to concern over the health effects of dioxins and furans. The Coalition stated, “No amount of additional exposure is safe to humans or animals.”

Response: The Clean Air Act (CAA) establishes several, separate programs to address different types of air pollution. The SIP program addresses emissions that impact an area's ability to attain or maintain national ambient air quality standards (NAAQS), such as the ozone standard. Under the CAA, EPA promulgates the NAAQS and states are then provided the discretion to develop plans to attain and maintain the NAAQS. If a state plan meets these criteria of the Act, EPA must approve the plan and cannot mandate the choices that the state makes to meet these goals. Separate provisions include other programs, such as the program to address the emission of hazardous air pollutants.

This final action approves a revision to the compliance averaging period for emissions of VOCs, which are regulated under the SIP for the purpose of attaining and maintaining the 1-hour ozone NAAQS. EPA has reviewed this SIP revision and determined that it will not interfere with the area's ability to attain and maintain the NAAQS. (See direct final rule: 67 FR 77430, December 18, 2002.)

Dioxins and furans are hazardous air pollutants (HAPs). HAPS are regulated under section 112 of the CAA and regulations that EPA has promulgated pursuant to section 112 of the Act. These regulations (and LMP's compliance with the regulations) are not relevant for purposes of this rulemaking, which only concerns compliance with the NAAQS. EPA has established a control regulation—Maximum Achievable Control Technology (MACT) standard—for the printing and publishing industry that applies to any facility that is a major source of HAPs. 40 CFR part 63, subpart KK. LMP is subject to the MACT for the printing and publishing industry because it is a major source of HAPs. LMP's title V permit reflects the applicable requirements that apply pursuant to subpart KK.

IV. Final Action

The EPA is finalizing approval of a source-specific revision to the Kentucky SIP which allows LMP to have an alternative compliance averaging period for VOC emissions of 30 days instead of the 24-hour averaging period specified in the approved SIP. EPA is approving the aforementioned changes to the SIP because they are consistent with Agency policy and guidance.

V. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding this action under section 801 because this is a rule of particular applicability.

Under section 307(b)(1) of the Clean Air Act, petitions for judicial review of this action must be filed in the United States Court of Appeals for the appropriate circuit by September 8, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Ozone, Reporting and recordkeeping requirements, Volatile organic compounds.

Dated: June 26, 2003.
A. Stanley Meiburg,
Acting Regional Administrator, Region 4.

Part 52 of chapter I, title 40, Code of Federal Regulations, is amended as follows:

PART 52—[AMENDED]

1. The authority citation for part 52 continues to read as follows:

Authority: 42.U.S.C. 7401 et seq.

Subpart S—Kentucky

2. Section 52.920(d) is amended by adding a new entry at the end of the table to read as follows:

§ 52.920 Identification of plan.

* * * * *

(d) * * *

EPA-Approved Kentucky Source-Specific Requirements
Name of source | Permit number | State effective date | EPA approval date | Federal Register notice
* * * * * * *
Lawson Mardon Packaging, USA, Inc. | N/A | 8/11/03 | 7/10/03 | [Insert FR page citation]

* * * * *

[FR Doc. 03-17510 Filed 7-9-03; 8:45 am]

BILLING CODE 6560-50-P